DEPARTMENT OF LABOR

Employment and Training Administration

[NAFTA-04888]

Imperial Home Decor Group, Plattsburgh, NY; Notice of Negative Determination Regarding Application for Reconsideration

By application dated June 22, 2001, the petitioner requested administrative reconsideration of the Department's negative determination regarding eligibility to apply for North American Free Trade Agreement-eligibility Adjustment Assistance (NAFTA-TAA), applicable to workers and former workers of the subject firm. The denial notice was signed on June 4, 2001, and was published in the Federal Register on June 27, 2001 (66 FR 34257).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The denial of NAFTA-TAA for workers providing warehousing, maintenance and security at Imperial Home Decor Group, Plattsburgh, New York, as based on the finding that the workers do not produce an article as required for certification under section 250(a) of the Trade Act of 1974, as amended.

The petitioner claims that the workers engaged in the warehousing, maintenance and security at the subject plant should be certified for eligibility under NAFTA-TAA since the plant was under an existing certification (NAFTA-02904), which expired on March 22, 2001. The petitioner further states that warehouse functions were transferred to Canada.

Review of the investigation shows that no production has been performed at the subject firm since November 1998. They were not in direct support of a certified facility producing a product during the relevant period. All workers terminated during the NAFTA-TAA certification (NAFTA-02904) period are eligible to apply for benefits.

Since no production at the subject firm has been performed after November 1998, the workers terminated after March 22, 2001 cannot be considered engaged in production as required in Section 250(a) of the Trade Act, as amended. The workers are considered for eligibility based on what they did during the relevant period and cannot be connected to the previous certification or previous plant production that was done before the relevant period of the investigation.

Workers of Imperial Home Decor Group, Plattsburgh, New York may be certified only if their separation was caused importantly by a reduced demand for their services from a parent firm, a firm otherwise related to the subject firm by ownership, or a firm related by control. Additionally, the reduction in demand for services must originate at a production facility whose workers independently meet the statutory criteria for certification and the reduction must directly relate to the product impacted by imports. These conditions have not been met for workers at the subject firm.

Further, any shift in warehousing functions to Canada as depicted by the petitioner, does not meet the eligibility requirements for the same reason as discussed above.

Conclusion

After review of the application and investigative findings, I conclude that there has been no error or misinterpretation of the law or of the facts which would justify reconsideration of the Department of Labor's prior decisions. Accordingly, the application is denied.

Signed at Washington, DC this 30th day of November, 2001.
Edward A. Tomchick,
Director, Division of Trade Adjustment Assistance.

[FR Doc. 01-31140 Filed 12-17-01; 8:45 am]

BILLING CODE 4510-30-M